SOCIAL SECURITY ADMINISTRATION

The Ticket to Work and Work Incentives Advisory Panel Teleconference

AGENCY: Social Security Administration (SSA).

ACTION: Notice of teleconference.

DATES: Thursday, January 22, 2004.

Teleconference: Thursday, January 22, 2004, 1:30 p.m. to 3:30 p.m. Eastern time.

Ticket to Work and Work Incentives Advisory Panel Conference Call: Call-in number: 1-877-546-1565. Pass code: PANEL. Leader/Host: Sarah Wiggins Mitchell.

SUPPLEMENTARY INFORMATION: Type of meeting: This teleconference meeting is open to the public. The interested public is invited to participate by calling into the teleconference at the number listed above. Public testimony will not be taken.

Purpose: In accordance with section 10(a)(2) of the Federal Advisory Committee Act, the Social Security Administration (SSA) announces this teleconference meeting of the Ticket to Work and Work Incentives Advisory Panel (the Panel). Section 101(f) of Public Law 106-170 establishes the Panel to advise the President, the Congress and the Commissioner of SSA on issues related to work incentives programs, planning and assistance for individuals with disabilities as provided under section 101(f)(2)(A) of the Ticket to Work and Work Incentives Advisory Act (TWWIIA). The Panel is also to advise the Commissioner on matters specified in section 101(f)(2)(B) of that Act, including certain issues related to the Ticket to Work and Self-Sufficiency Program established under section 101(a) of that Act.

Agenda: The Panel will be discussing its Annual Report to the President and Congress. The agenda for this meeting will be posted on the Internet at http://www.socialsecurity/work/panel one week prior to the teleconference or can be received in advance electronically or by fax upon request.

Contact Information: Records are being kept of all Panel proceedings and will be available for public inspection by appointment at the Panel office. Anyone requiring information regarding the Panel should contact the TWWIIA Panel staff by:

• Mail addressed to Ticket to Work and Work Incentives Advisory Panel Staff, Social Security Administration, 400 Virginia Avenue, SW., Suite 700, Washington, DC 20024;

• Telephone contact with Monique Fisher (202) 358-6435;

• Fax at (202) 358-6440; or

• E-mail to TWWIIAPanel@ssa.gov.

Dated: December 18, 2003.
Deborah Morrison,
Designated Federal Official.

[FR Doc. 03-31682 Filed 12-23-03; 8:45 am]

BILLING CODE 4191-02-P